DEPARTMENT OF TRANSPORTATION

Federal Aviation Administration

14 CFR Part 71

[Docket No. FAA-2020-0497; Airspace Docket No. 20-ASO-1]

RIN 2120-AA66

Proposed Amendment of V-5 and V-178, and Revocation of V-513 in the Vicinity of New Hope, KY

AGENCY: Federal Aviation Administration (FAA), DOT.

ACTION: Notice of proposed rulemaking (NPRM).

SUMMARY: This action proposes to amend VHF Omnidirectional Range (VOR) Federal airways V-5 and V-178, and remove V-513 in the vicinity of New Hope, KY. The amendments are due to the planned decommissioning of the VOR portion of the New Hope, KY (EWO), VOR/Distance Measuring Equipment (VOR/DME) navigation aid (NAVAID) which provides navigation guidance for portions of the affected airways. The New Hope VOR is being decommissioned as part of the FAA's VOR Minimum Operational Network (MON) program.

DATES: Comments must be received on or before July 20, 2020.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2020-0497; Airspace Docket No. 20-ASO-1 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0497; Airspace Docket No. 20-ASO-1) and be submitted in triplicate to the Docket Management Facility (see ADDRESSES; section for address and phone number). You may also submit comments through the internet at https://www.regulations.gov.

Commenters wishing the FAA to acknowledge receipt of their comments on this action must submit with those comments a self-addressed, stamped postcard on which the following statement is made: “Comments to FAA Docket No. FAA-2020-0497; Airspace Docket No. 20-ASO-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA is planning to decommission the VOR portion of the New Hope, KY (EWO), VOR/DME in December 2020. The New Hope VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. Although the VOR portion of the New Hope VOR/DME NAVAID is planned for decommissioning, the DME portion of the NAVAID is being retained to support Next Generation Air Transportation System (NextGen) Performance Based Navigation (PBN) flight procedure requirements.

The VOR Federal airway dependencies to the New Hope VOR are V-5, V-178, and V-513. With the planned decommissioning of the New Hope VOR, the proposed modifications to the dependent airways would result in the airway segments supported by the New Hope VOR being removed; creating gaps in V-5 and V-178, and removing V-513.

To overcome the gaps created in V-5 and V-178, and the removal of V-513, instrument flight rules (IFR) pilots could use adjacent VOR Federal airways, including V-51, V-52, V-140, V-310, and V-493, or could request air traffic control radar vectors to fly through or circumnavigate the affected area. IFR pilots equipped with area navigation (RNAV) PBN could also navigate point to point using the existing fixes that will remain in place to support continued operations though the affected area. Visual flight rules (VFR) pilots who elect to navigate via the airways through the affected area could also take advantage of the air traffic services previously listed.

Prior to this NPRM, the FAA published a rule for Docket No. FAA-2020-0008 in the Federal Register (85 FR 26601; May 5, 2020), amending VOR Federal airway V-178 by removing the airway segment between the Cunningham, KY, VOR/DME and the New Hope, KY, VOR/DME. The airway amendment, effective July 16, 2020, is included in this NPRM. Additionally, the FAA published a second rule prior to this NPRM for Docket No. FAA-2020-0002 in the Federal Register (85 FR 28852, May 14, 2020), further amending V-178 by removing the airway segment between the Farmington, MO, VOR/Tactical Air Navigation (VORTAC) and the Cunningham, KY, VOR/DME. This airway amendment, effective July 16, 2020, is also included in this NPRM.

The Proposal

The FAA is proposing an amendment to Title 14 Code of Federal Regulations (14 CFR) part 71 to amend VOR Federal airways V-5 and V-178, and remove V-513. This proposal would also correct the state location for the Choo Choo VORTAC to read Tennessee (TN). The planned decommissioning of the VOR portion of the New Hope, KY, VOR/DME has made this action necessary. The proposed VOR Federal airway actions are described below.

V-5: V-5 currently extends between the Pecan, GA, VOR/DME and the Appleton, OH, VORTAC. The FAA proposes to remove the airway segment between the Bowling Green, KY, VORTAC and the Louisville, KY, VORTAC. Additional changes to other portions of the airway have been proposed in a separate NPRM for Docket No. FAA-2020-0188 that published in the Federal Register (85 FR16585, March 24, 2020). The unaffected portions of the existing airway would remain as charted.

V-178: V-178 currently extends between the Hallsville, MO, VORTAC and the Farmington, MO, VORTAC; and between the New Hope, KY, VOR/DME and the Bluefield, WV, VOR/DME. The FAA proposes to remove the airway segment between the New Hope, KY, VOR/DME and the Lexington, KY, VOR/DME. The unaffected portions of the existing airway remain as charted.

V-513: V-513 currently extends between the Livingston, TN, VOR/DME and the Louisville, KY, VORTAC. The FAA proposes to remove the airway in its entirety.

All radials contained in the VOR Federal airway descriptions below are unchanged and stated in True degrees.

VOR Federal airways are published in paragraph 6010(a) of FAA Order 7400.11D dated August 8, 2019, and effective September 15, 2019, which is incorporated by reference in 14 CFR 71.1. The VOR Federal airways listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6010(a) Domestic VOR Federal Airways.

* * * * *

V-5 [Amended]

From Pecan, GA; Vienna, GA; Dublin, GA; Athens, GA; INT Athens 340° and Electric City, SC, 274° radials; INT Electric City 274° and Choo Choo, TN, 127° radials; Choo Choo; to Bowling Green, KY. From Louisville, KY; Cincinnati, OH; to Appleton, OH.

* * * * *

V-178 [Amended]

From Hallsville, MO; INT Hallsville l83° and Vichy, MO, 32l° radials; Vichy; to Farmington, MO. From Lexington, KY; to Bluefield, WV.

* * * * *

V-513 [Removed]

* * * * *

Scott M. Rosenbloom,
Acting Manager, Rules and Regulations Group.

[FR Doc. 2020-11856 Filed 6-2-20; 8:45 am]

BILLING CODE 4910-13-P